DEPARTMENT OF JUSTICE

Drug Enforcement Administration

[Docket No. DEA-635]

Bulk Manufacturer of Controlled Substances Application: Research Triangle Institute

ACTION: Notice of application.

DATES: Registered bulk manufacturers of the affected basic class(es), and applicants therefore, may file written comments on or objections to the issuance of the proposed registration on or before July 6, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 4, 2020, Research Triangle Institute, 3040 East Cornwallis Road, Hermann Building, Room 106, Research Triangle Park, North Carolina 27709, applied to be registered as a bulk manufacturer of the following basic class(es) of controlled substances:

Controlled substance | Drug code | Schedule
Tetrahydrocannabinols | 7370 | I

The purpose for the bulk manufacturing of the controlled substance is for the preparation and the sale of small quantities of Tetrahydrocannabinols (7370), which will be manufactured by synthesis for use by customers as analytical reference standards.

William T. McDermott,
Assistant Administrator.

[FR Doc. 2020-09555 Filed 5-4-20; 8:45 am]

BILLING CODE 4410-09-P